DEPARTMENT OF HEALTH AND HUMAN SERVICES

National Institutes of Health

National Center for Complementary & Alternative Medicine; Amended Notice of Closed Meeting

Notice is hereby given of a change in the meeting of the National Advisory Council for Complementary and Alternative Medicine, September 11, 2009, 8:30 a.m. to September 11, 2009, 4 p.m., National Institutes of Health, Neuroscience Center, 6001 Executive Boulevard, Rockville, MD 20852 which was published in the Federal Register on July 20, 2009, 74 FR 17204.

This meeting is being amended to change the meeting date to September 10, 2009 through September 11, 2009 and the time of the closed session on September 11, 2009. On September 10, 2009 the meeting will be held in open session from 8:30 a.m. to 5 p.m. at the Marriott Bethesda North Hotel & Conference Center, 5701 Marinelli Road, Bethesda, MD 20852. On September 11, 2009 there will be an open session from 8:30 a.m. to 10 a.m. The closed session is scheduled from 10 a.m. to 12 p.m., and the open session will resume from 1 p.m. to 3 p.m. The location for September 11, 2009 remains the same.

Dated: August 5, 2009.
Jennifer Spaeth,
Director, Office of Federal Advisory Committee Policy.

[FR Doc. E9-19323 Filed 8-11-09; 8:45 am]

BILLING CODE 4140-01-P